DEPARTMENT OF COMMERCE

National Oceanic and Atmospheric Administration

50 CFR Part 622

[I.D. 051302B]

Fisheries of the Caribbean, Gulf of Mexico, and South Atlantic; Comprehensive Amendment Addressing Sustainable Fisheries Act Definitions and Other Required Provisions in Fishery Management Plans of Puerto Rico and the U.S. Virgin Islands; Scoping Meetings

AGENCY: National Marine Fisheries Service (NMFS), National Oceanic and Atmospheric Administration (NOAA), Commerce.

ACTION: Notice of intent to prepare a draft supplemental environmental impact statement (DSEIS); notice of scoping meetings; request for comments.

SUMMARY: The Caribbean Fishery Management Council (Council) intends to prepare a DSEIS to assess the impacts on the natural and human environment of the various managed fisheries related to the management measures proposed under the draft Comprehensive Amendment Addressing Sustainable Fishery Act (SFA) Definitions and Other Required Provisions of the Magnuson-Stevens Fishery Conservation and Management Act (Magnuson-Stevens Act) in the Fishery Management Plans (FMPs) of Puerto Rico and the U.S. Virgin Islands (Comprehensive SFA Amendment).

DATES: Written comments on the scope of issues to be addressed in the DSEIS must be received by July 1, 2002. The scoping meetings will be held in June 2002. See SUPPLEMENTARY INFORMATION for specific dates and times for the scoping meetings.

ADDRESSES: Written comments on the scope of the DSEIS and requests for additional information on the proposed management measures should be sent to the Caribbean Fishery Management Council, 268 Muñoz Rivera Avenue, Suite 1108, San Juan, Puerto Rico 00918-1920; telephone: (787) 766-592; fax: (787) 766-6239; or you can send comments by e-mail to: miguel.a.rolon@noaa.gov or graciela.garcia-moliner@noaa.gov. The scoping meetings will be held in Puerto Rico, St. Thomas, and St. Croix, USVI. See SUPPLEMENTARY INFORMATION for specific meeting locations.

FOR FURTHER INFORMATION CONTACT: Graciela García-Moliner, phone: (787) 766-5926, e-mail: graciela.garcia-moliner@noaa.gov or Michael C. Barnette; phone: (727) 570-5305; fax: (727) 570-5583, e-mail: michael.barnette@noaa.gov.

SUPPLEMENTARY INFORMATION: The Caribbean fisheries for Corals and Reef Associated Plants and Invertebrates, Queen Conch, Reef Fish, and Spiny Lobster in the exclusive economic zone are managed under FMPs prepared by the Council and approved and implemented by NMFS. In January 1985 NMFS prepared an Environmental Impact Statement (EIS) for the Spiny Lobster FMP. In February 1985 NMFS prepared an EIS for the Reef Fish Fishery FMP. In July 1994 NMFS prepared an EIS for the Corals and Reef Associated Plants and Invertebrates FMP. In January 1996 NMFS prepared an EIS for the Queen Conch FMP. This DSEIS would supplement all of the previous EISs.

The Council is preparing to amend the FMPs for Corals and Reef Associated Plants and Invertebrates, Queen Conch, Reef Fish Fishery, and Spiny Lobster to: (1) Address the consistency with new definitions; (2) address bycatch management measures and bycatch reporting requirements; (3) provide descriptions of the commercial, recreational, and charter fisheries and quantify trends in landings and data specified for each sector; (4) address fishery impact statements to insure they incorporate the likely effects of management measures on fishing communities; and (5) address overfishing provisions specifying objective and measurable criteria for identifying whether a species is overfished and provide subsequent measures to rebuild overfished stocks.

The DSEIS will describe the proposed management measures in the Comprehensive SFA Amendment and will assess the environmental impacts of these proposed and alternative measures. To ensure compliance with the requirements of the SFA in the various FMPs, the Council intends to evaluate numerous management measures, such as permits, commercial reporting requirements (including species-specific and bycatch reporting), limited entry, time/area closures (including closures for spawning aggregations and habitat protection), size limits, trip limits, gear restrictions, mandatory and/or voluntary observers, the addition and/or deletion of species from the management unit, and recreational possession limits. However, the Council is requesting written comments on the scope of the issues to be addressed in the DSEIS.

Once the Council completes the DSEIS, it will submit it to NMFS for filing with the EPA. The EPA will publish a notice of availability of the DSEIS for public comment in the Federal Register. The DSEIS will have a 45-day comment period. The procedure is pursuant to regulations issued by the Council on Environmental Quality (CEQ) (40 CFR parts 1500-1508) for implementing the procedural provisions of the National Environmental Policy Act (NEPA) and to NOAA’s Administrative Order 216-6 regarding NOAA’s compliance with NEPA and the CEQ regulations. The Council will consider public comments received on the DSEIS before adopting final management measures for the Comprehensive SFA Amendment. The Council intends to prepare a final supplemental environmental impact statement (FSEIS) in support of the final Comprehensive SFA Amendment and submit the final Comprehensive SFA Amendment and supporting FSEIS to NMFS for Secretarial review, approval, and implementation under the Magnuson-Stevens Act. NMFS will announce availability of the Comprehensive SFA Amendment for public review during the Secretarial review period through a notice published in the Federal Register. During Secretarial review, NMFS will also file the FSEIS with the EPA for a final 30-day public comment period. This comment period will be concurrent with the Secretarial review period and will end prior to final agency action to approve, disapprove, or partially approve the Comprehensive SFA Amendment. All public comment periods on the Comprehensive SFA Amendment, its proposed implementing regulations, and its associated FSEIS will be announced through a notice published in the Federal Register. NMFS will consider all public comments received during the 60-day Secretarial review period, whether they are on the Comprehensive SFA Amendment, the FSEIS, or the proposed regulations, prior to final agency action.

The scoping meetings will be held at the following dates and locations:

1. June 4, 2002: Conference Room of Torres de la Parguera Hotel, Carr. Principal #304, La Parguera, Lajas, Puerto Rico, from 2 p.m. to 5 p.m.;

2. June 6, 2002: Conference Room of the Best Western Pierre Hotel, De Diego Avenue, Santurce, Puerto Rico, from 2 p.m. to 5 p.m.;

3. June 10, 2002: Conference Room of the Caravelle Hotel, 44A Queen Cross St., Christiansted, St. Croix, U.S.V.I., from 7 p.m. to 10 p.m.; and

4. June 12, 2002: Conference Room of the Windward Passage Holiday Inn, Veterans Drive, Charlotte Amalie, St. Thomas, U.S.V.I., from 1 p.m. to 3 p.m.

Special Accommodations

These meetings are physically accessible to people with disabilities. Requests for sign language interpretation or other auxiliary aids should be directed to Graciela García-Moliner at the Council (see ADDRESSES).

Dated: May, 2002.
Virginia M. Fay,
Acting Director, Office of Sustainable Fisheries, National Marine Fisheries Service.

[FR Doc. 02-13707 Filed 5-30-02; 8:45 am]

BILLING CODE 3510-22-S